SMALL BUSINESS ADMINISTRATION

[Declaration of Disaster #3573]

State of Illinois

As a result of the President's major disaster declaration on April 23, 2004, I find that Kankakee, LaSalle, Putnam and Will Counties in the State of Illinois constitute a disaster area due to damages caused by severe storms and tornadoes occurring on April 20, 2004, and continuing. Applications for loans for physical damage as a result of this disaster may be filed until the close of business on June 22, 2004 and for economic injury until the close of business on January 24, 2005 at the address listed below or other locally announced locations: U.S. Small Business Administration, Disaster Area 2 Office, One Baltimore Place, Suite 300, Atlanta, GA 30308.

In addition, applications for economic injury loans from small business located in the following contiguous counties may be filed until the specified date at the above location: Bureau, Cook, DeKalb, DuPage, Ford, Grundy, Iroquois, Kane, Kendall, Lee, Livingston, Marshall and Woodford in the State of Illinois; and Lake and Newton counties in the State of Indiana.

The interest rates are:

| Percent
For Physical Damage:
Homeowners With Credit Available Elsewhere | 5.750
Homeowners Without Credit Available Elsewhere | 2.875
Businesses With Credit Available Elsewhere | 5.500
Businesses and Non-Profit Organizations Without Credit Available Elsewhere | 2.750
Others (Including Non-Profit Organizations) With Credit Available Elsewhere | 4.875
For Economic Injury:
Businesses and Small Agricultural Cooperatives Without Credit Available Elsewhere | 2.750

The number assigned to this disaster for physical damage is 357312. For economic injury the number is 9ZA700 for Illinois; and 9ZA800 for Indiana.

(Catalog of Federal Domestic Assistance Program Nos. 59002 and 59008)

Dated: April 26, 2004.
Herbert L. Mitchell,
Associate Administrator for Disaster Assistance.

[FR Doc. 04-9949 Filed 4-30-04; 8:45 am]

BILLING CODE 8025-01-M